Proclamation 9885 of May 10, 2019

Mother's Day, 2019

By the President of the United States of America

A Proclamation

For more than a century, Americans have set aside the second Sunday in May to honor, celebrate, and thank the inspirational mothers in our lives. In 1914, the Congress, by joint resolution (38 Stat. 770), designated this day as Mother's Day and requested the President to call for its appropriate observance. Today, we recognize mothers everywhere who inspire us to dream big and to never give up.

Mothers have always played an integral role in shaping our great Nation. Even before our country was founded, mothers inspired sons and daughters to patriotism and devotion to the ideal of freedom for all. After First Lady Abigail Adams died in 1818, her son, President John Quincy Adams, wrote: “She had been, during the war of our Revolution, an ardent patriot, and the earliest lesson of unbounded devotion to the cause of their country that her children received was from her.” Inspirational mothers across America continue to pass on this same lesson, encouraging their children to become leaders in their own families and great citizens in their communities and this Nation.

Even in our lowest moments, mothers see the best in their children. Through their guidance and unwavering love, they prepare us for the challenges of adulthood and provide us with the confidence we need to reach our full potential. They are some of the best examples of everyday heroes, and their consistent devotion to family and grace under pressure too often go overlooked. At any stage in life, we find comfort in knowing that we can call on our mothers and grandmothers or reflect on our wonderful memories of them to find wisdom and strength.

On this Mother's Day, we pay tribute to our mothers, whether we are their children by birth, adoption, or foster care, for their devotion to seeing us lead happy and successful lives. Today, and every day, let us ensure that our mothers know and feel our deep gratitude for the gift of life and for their unmatched sacrifices to strengthen our families and our Nation.

NOW, THEREFORE, I, DONALD J. TRUMP, President of the United States of America, by virtue of the authority vested in me by the Constitution and the laws of the United States, do hereby proclaim May 12, 2019, as Mother's Day. I encourage all Americans to express their love and respect for their mothers or beloved mother figures, whether with us in person or in spirit, and to reflect on the importance of motherhood to the prosperity of our families, communities, and Nation.

IN WITNESS WHEREOF, I have hereunto set my hand this tenth day of May, in the year of our Lord two thousand nineteen, and of the Independence of the United States of America the two hundred and forty-third.

[FR Doc. 2019-10263

Filed 5-14-19; 11:15 am]

Billing code 3295-F9-P